DEPARTMENT OF ENERGY

Federal Energy Regulatory Commission

[Docket No. CP04-391-000]

Northern Natural Gas Company; Notice of Request Under Blanket Authorization

August 9, 2004.

Take notice that on July 30, 2004, Northern Natural Gas Company (Northern), 1111 South 103rd Street, Omaha, Nebraska 68124-1000, filed in Docket No. CP04-391-000, an application pursuant to sections 157.205 and 157.211 of the Commission's Regulations for authorization to construct and operate delivery point facilities on its pipeline in Juneau County, Wisconsin, for deliveries to Merrick's, Inc., for its animal food processing plant. Northern states that it filed this application under Northern's blanket certificate issued in Docket No. CP82-401-000 pursuant to section 7 of the NGA. Northern further states that it is estimated that the cost of the facilities would be $213,308, for which Northern would be reimbursed by Merrick's. Northern asserts that the addition of the delivery point will not have a significant impact on Northern's annual deliveries or peak day operations, because transportation will be provided under Northern's currently authorized level of service.

Any questions concerning this application may be directed to Michael T. Loeffler, Director, Certificates and Reporting, at (402) 398-7103, or Donna Martens, Senior Regulatory Analyst, at (402) 398-7138.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Magalie R. Salas,
Secretary.

[FR Doc. E4-1813 Filed 8-12-04; 8:45 am]

BILLING CODE 6717-01-P